DEPARTMENT OF STATE

[Public Notice 9904]

Proposal To Extend Cultural Property Agreement Between the United States and Guatemala

AGENCY: Department of State.

ACTION: Notice.

SUMMARY: The Government of the Republic of Guatemala has informed the Government of the United States of America of its interest in an extension of the Memorandum of Understanding Between the Government of the United States of America and the Government of the Republic of Guatemala Concerning the Imposition of Import Restrictions on Archaeological Material from the Pre-Columbian Cultures and Ecclesiastical Ethnological Material from the Conquest and Colonial Periods of Guatemala.

FOR FURTHER INFORMATION CONTACT: The Cultural Heritage Center, Bureau of Educational and Cultural Affairs: 202-632-6301; CulProp@state.gov.

SUPPLEMENTARY INFORMATION: Pursuant to the authority delegated to the Assistant Secretary of State for Educational and Cultural Affairs, and pursuant to 19 U.S.C. 2602(f)(1), the Department proposes an extension of the Memorandum of Understanding with the Government of Guatemala.

A copy of the Memorandum of Understanding, the Designated List of categories of material restricted from import into the United States, and related information can be found at the Cultural Heritage Center Web site: http://culturalheritage.state.gov.

Mark Taplin,
Acting Assistant Secretary, Bureau of Educational and Cultural Affairs, U.S. Department of State.

[FR Doc. 2017-04961 Filed 3-13-17; 8:45 am]

BILLING CODE 4710-05-P